DEPARTMENT OF COMMERCE

National Oceanic and Atmospheric Administration

RIN 0648-XD674

Fisheries of the Exclusive Economic Zone off Alaska; Application for an Exempted Fishing Permit

AGENCY: National Marine Fisheries Service (NMFS), National Oceanic and Atmospheric Administration (NOAA), Commerce.

ACTION: Notice; receipt of application for exempted fishing permit.

SUMMARY: This notice announces receipt of an exempted fishing permit (EFP) application from the Alaska Seafood Cooperative (AKSC). If granted, this permit would allow AKSC to evaluate how often vessels use alternate halibut handling methods designed to reduce halibut mortality, when the alternate methods are available as an option. Operators from AKSC nonpelagic trawl vessels would remove halibut from a codend on the deck, and release those fish back to the water in a timely manner to increase survivability. These halibut would be sampled by trained sea samplers for length and physical condition using standard International Pacific Halibut Commission (IPHC) halibut mortality assessment methodology. This experiment has the potential to promote the objectives of the Magnuson-Stevens Fishery Conservation and Management Act and the Pacific Halibut Act.

DATES: Comments on this EFP application must be submitted to NMFS by 5 p.m. A.S.T., February 11, 2015. The North Pacific Fishery Management Council (Council) will consider the application at its meeting from February 2, 2015, to February 11, 2015 in Seattle, WA.

ADDRESSES: The Council meeting will be held at the Renaissance Hotel 515 Madison Street, Seattle, WA 98104. The agenda for the Council meeting is available at http://legistar2.granicus.com/npfmc/meetings/2015/2/918_A_North_Pacific_Council_15-02-02_Meeting_Agenda.pdf. You may submit comments on this document, identified by NOAA-NMFS-2014-0162, by any of the following methods:

• Electronic Submission: Submit all electronic public comments via the Federal e-Rulemaking Portal. Go to www.regulations.gov/#!docketDetail;D=NOAA-NMFS-2014-0162, click the “Comment Now!” icon, complete the required fields, and enter or attach your comments.

• Mail: Address written comments to Glenn Merrill, Assistant Regional Administrator, Sustainable Fisheries Division, Alaska Region NMFS, Attn: Ellen Sebastian. Mail comments to P.O. Box 21668, Juneau, AK 99802-1668.

• Fax: Address written comments to Glenn Merrill, Assistant Regional Administrator, Sustainable Fisheries Division, Alaska Region NMFS, Attn: Ellen Sebastian. Fax comments to 907-586-7557.

• Hand delivery to the Federal Building: Address written comments to Glenn Merrill, Assistant Regional Administrator, Sustainable Fisheries Division, Alaska Region NMFS, Attn: Ellen Sebastian. Deliver comments to 709 West 9th Street, Room 420A, Juneau, AK.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

Copies of the EFP application and the basis for a categorical exclusion under the National Environmental Policy Act are available from the Alaska Region, NMFS Web site at http://alaskafisheries.noaa.gov/.

The June, 2014 International Halibut Commission (IPHC) Report is available from the North Pacific Fishery Management Council Web site at http://npfmc.org.

FOR FURTHER INFORMATION CONTACT: Jeff Hartman, 907-586-7442.

SUPPLEMENTARY INFORMATION: NMFS manages the domestic groundfish fisheries in the Bering Sea and Aleutian Islands management area (BSAI) under the Fishery Management Plan for Groundfish of the BSAI Management Area (FMP), which the Council prepared under the Magnuson-Stevens Fishery Conservation and Management Act. Regulations governing the BSAI groundfish fisheries appear at 50 CFR parts 600 and 679. The FMP and the implementing regulations at § 600.745(b) and § 679.6 allow the NMFS Regional Administrator to authorize, for limited experimental purposes, fishing that would otherwise be prohibited. Procedures for issuing EFPs are contained in the implementing regulations.

The International Pacific Halibut Commission (IPHC) and NMFS manage fishing for Pacific halibut (Hippoglossus stenolepis) through regulations established under the authority of the Convention between the United States and Canada for the Preservation of the Halibut Fishery of the Northern Pacific Ocean and Bering Sea (Convention) and the Northern Pacific Halibut Act of 1982 (Halibut Act). The IPHC promulgates regulations pursuant to the Convention. The IPHC's regulations are subject to approval by the Secretary of State with concurrence from the Secretary of Commerce (Secretary).

Background

Regulations implemented by the IPHC allow Pacific halibut to be commercially harvested by the directed North Pacific longline fishery. Halibut is a prohibited species in the groundfish fishery, requiring immediate return to the sea with a minimum of injury. Halibut caught incidentally by catcher/processors in the nonpelagic trawl groundfish fisheries must be weighed on a NMFS-approved scale, sampled by observers, and returned to the ocean as soon as possible. The Council establishes annual maximum halibut bycatch allowances and seasonal apportionments adjusted by an estimated halibut discard mortality rate (DMR) for groundfish fisheries. The DMRs are based on the best information available, including information contained in the annual Stock Assessment and Fishery Evaluation report, available at, http://www.alaskafisheries.noaa.gov/. NMFS approves the halibut DMRs developed and recommended by the IPHC and the Council for the BSAI groundfish fisheries for use in monitoring the halibut bycatch allowances and seasonal apportionments. The IPHC developed these DMRs for the BSAI groundfish fisheries using the 10-year mean DMRs for those fisheries.

Directed fishing in a groundfish fishery closes when it reaches the halibut mortality apportionment for the fishery, even if the target species catch is less than the seasonal or annual quota for the directed fishery. In the case of the Bering Sea flatfish fishery, seasons have been closed before fishery quotas have been reached to prevent the fishery from reaching the halibut mortality apportionment.

With the implementation of Amendment 80 to the FMP on September 14, 2007 (72 FR 52668), halibut mortality apportionments were established for the Amendment 80 sector and for Amendment 80 cooperatives. Amendment 80 is a catch share program established in 2007 to allocate several BSAI non-pollock trawl groundfish fisheries (including the flatfish fishery) among fishing sectors, and facilitate the formation of harvesting cooperatives in the non-American Fisheries Act (AFA) trawl catcher/processor sector. Though halibut mortality allocations provide Amendment 80 cooperatives more flexibility to use available mortality, halibut mortality continues to constrain fishing in some Amendment 80 fisheries. Therefore, this sector is actively exploring ways to continue to reduce halibut mortality.

Before incidentally-caught halibut are returned to the sea, at-sea observers must estimate halibut and groundfish catch amounts. Regulations in 50 CFR part 679 assure that observer halibut and groundfish estimates are credible and accurate, and that potential bias is minimized. For example, NMFS requires that all catch be made available for sampling by an observer; prohibits tampering with observer samples; prohibits removal of halibut from a cod end, bin, or conveyance system prior to being observed and counted by an at-sea observer; and prohibits fish (including halibut) from remaining on deck unless an observer is present.

In 2009 and 2012, halibut mortality experiments were conducted by members of the Amendment 80 sector under EFP 09-02 (74 FR 12113, March 23, 2009) and EFP 12-01 (76 FR 70972, November 16, 2011). By regulation, all catch including halibut is moved across a flow scale below deck before the halibut is returned to the sea. Halibut mortality increases with increased handling and time out of water. Under EFP 09-02 and 12-01, experimental methods for sorting catch on a vessel's deck allowed halibut to be returned to the sea in less time, with less handling relative to halibut routed below deck and over the flow scale. The halibut mortality during flatfish fishing under EFP 09-02 and EFP 12-01 was estimated to be approximately 17 mt and 10.8 mt, respectively, less than the amounts estimated from the DMR for this fishery. The reduced halibut mortality under EFP 09-02 and EFP 12-01 is attributed to the improved condition of halibut through reduced handling and time out of water.

Reducing halibut mortality is a high-priority management goal for the IPHC, the Council, and NMFS. In June 2014, the Council received a report from the IPHC about the impact of halibut bycatch in the groundfish fisheries on the short- and long-term yields in the directed halibut fishery. The IPHC report (see ADDRESSES) presented scenarios under which increases in halibut bycatch or decreases in the exploitable halibut biomass would result in no directed fishery yield in IPHC Management Area 4CDE per the IPHC's harvest policy. At its June 2014 meeting, the Council passed a motion requesting all groundfish industry sectors to undertake voluntary efforts to reduce halibut mortalities in the BSAI resulting from halibut bycatch, as well as discards in the directed fishery, by 10 percent from the current 5-year average levels, through the 2014-15 fishing seasons. The Council also encouraged NMFS to work closely with the Amendment 80 sector to develop deck sorting procedures and technologies that could reduce halibut mortalities with the eventual goal of implementing a full-scale program.

On January 8, 2015, the Alaska Seafood Cooperative (an Amendment 80 cooperative) submitted an application for an EFP for 2015 to build on the information collected in prior deck sorting EFPs to assist with future full-scale implementation and to reduce halibut mortality in the Amendment 80 sector. The primary objective is to test methods that reduce halibut mortality in the Amendment 80 sector in IPHC Management Area 4CDE in 2015.

Proposed Action

The experimental design for EFP 2012-01 allowed halibut to be removed from the codend on two Amendment 80 sector vessels, and standardized viability estimates were applied to the halibut returned to the sea. EFP fishing on all vessels authorized under EFP 2012-01 was conducted with two lead-level sea samplers and a dedicated EFP project manager. For any fishing trip, EFP fishing could not be conducted as the same time as regular commercial fishing, to minimize confusion about groundfish catch and PSC estimates from observers versus sea samplers. NMFS received an application from the AKSC to conduct a new halibut mortality experiment in 2015. This EFP would expand on results of EFP 2009-02 and EFP 2012-01 to explore the feasibility of deck sorting halibut in additional target fisheries, on more vessels, and during a longer interval of time during the fishing season. EFP results would inform the operational practicality and cost of various fishing and fish handling practices, and their effect on halibut mortality. The EFP would allow researchers onboard catcher/processor vessels to sort halibut removed from a codend on the deck of the vessel. Those sorted halibut could be released back to the water after the halibut are measured for length and tested for physical condition using standard IPHC viability assessment methods.

The objectives for this EFP are to: (1) Assess the reduction in halibut mortality when deck sorting is available as an optional catch handling procedure; (2) evaluate the frequency of tows where deck sorting is used relative to the existing catch handling procedures; (3) evaluate the percentage of a participating vessel's halibut catch that is sorted on deck; and (4) evaluate the utility of deck sorting in the context of the rules and constraints of the EFP.

The applicant proposes to begin EFP fishing at the earliest possible date in 2015, and end on December 31, 2015. The EFP would allow halibut to be sorted, sampled, and released prior to being weighed on a flow scale, to achieve the experimental objectives and reduce halibut mortality. This EFP application requests an amount of halibut for vessels engaged in experimental fishing not to exceed the AKSC's 2015 halibut apportionment of 1,693 metric tons (mt). AKSC would not exceed its annual halibut mortality apportionment.

The applicant would track the amount of halibut mortality for fish sorted on deck to determine halibut mortality amounts from EFP-permitted vessels. These amounts would reflect actual halibut mortality amounts sampled during the experiment, and accrue against the EFP halibut mortality limit, not to exceed 1,693 mt. Before the halibut mortality limit is reached, the EFP permit holder would notify NMFS and end EFP fishing. As required by existing regulations, Amendment 80 fishing will also cease when the annual halibut mortality apportionment is reached.

This proposed action would exempt participating catcher/processors from selected 50 CFR part 679 prohibitions, monitoring and observer requirements. Should the Regional Administrator issue a permit based on this EFP application, the conditions of the permit will be designed to minimize halibut mortality, and any potential for biasing estimates of groundfish and halibut mortality. Vessels participating in EFP fishing may be exempt from, at minimum, the following regulations:

1. The prohibition against interfering with or biasing the sampling procedure employed by an observer including physical, mechanical, or other sorting or discarding of catch before sampling, at § 679.7(g)(2);

2. the requirements to weigh all catch by an Amendment 80 vessel on a NMFS-approved scale at § 679.28(b);

3. the requirement for all catch by an Amendment 80 vessel to be made available for sampling by an observer at § 679.93(c)(1); and

4. the regulations that prohibit fish from being allowed to remain on deck unless an observer is present at § 679.93(c)(5).

EFP 2015-02 would require sea samplers for monitoring and data collection under the EFP. Sea samplers are NMFS-certified observers that conduct activities under an EFP rather than normal observer activities on an Amendment 80 vessel. In contrast with EFP 2012-01, the applicant proposes to commence EFP fishing with one instead of two sea samplers. This EFP would also allow for EFP fishing and regular commercial fishing to occur during a single fishing trip. To ensure that standards for catch accounting of target species, bycatch of groundfish and PSC are sufficient, the EFP applicant proposes to: (1) Provide advanced notification to NMFS and EFP staff of when deck sorting will commence, (2) provide a pre-cruise briefing with observer program staff, (3) phase-in electronic compliance monitoring on each vessel permitted under this EFP, and (4) record halibut mortality from the EFP in the catcher/processor elogbook.

In 2016, the AKSC would be required to submit to NMFS a report of the EFP results after EFP experimental fishing has ended in 2015. The report would include an estimate of halibut mortality from halibut sampled during the EFP and an estimate of halibut mortality under standard IPHC halibut mortality rates for those target fisheries.

Under the EFP, the AKSC would be limited to the AKSC's Amendment 80 groundfish allocation. The amount of halibut mortality accrued by the AKSC and under the EFP would not exceed the AKSC's 1,693 mt halibut mortality limit. The amount of halibut mortality applied to the EFP activities would be subject to review and approval by NMFS.

This EFP would be valid upon issuance in 2015 until either the end of 2015 or when the halibut mortality apportionment is reached in areas of the BSAI open to directed fishing by the Amendment 80 cooperative. EFP-authorized fishing activities would not be expected to change the nature or duration of the groundfish fishery, gear used, or the amount or species of fish caught by the Amendment 80 cooperative.

The fieldwork that would be conducted under this EFP is not expected to have a significant impact on the human environment as detailed in the categorical exclusion prepared for this action (see ADDRESSES).

In accordance with § 679.6, NMFS has determined that the application warrants further consideration and has forwarded the application to the Council to initiate consultation. The Council is scheduled to consider the EFP application during its February 2015 meeting, which will be held at the Renaissance Hotel, Seattle. The EFP application will also be provided to the Scientific and Statistical Committee for review at the February Council meeting. The applicant has been invited to appear in support of the application.

Public Comments

Interested persons may comment on the application at the February 2015 Council meeting during public testimony or until February 11, 2015. Information regarding the meeting is available at the Council's Web site at http://alaskafisheries.noaa.gov/npfmc/council.htm. Copies of the application and categorical exclusion are available for review from NMFS (see ADDRESSES). Comments also may be submitted directly to NMFS (see ADDRESSES) by the end of the comment period (see DATES).

Authority: 16 U.S.C. 1801 et seq.

Dated: January 15, 2015.
Emily H. Menashes,
Acting Director, Office of Sustainable Fisheries, National Marine Fisheries Service.

[FR Doc. 2015-00918 Filed 1-21-15; 8:45 am]

BILLING CODE 3510-22-P